DEPARTMENT OF ENERGY

Federal Energy Regulatory Commission

Combined Notice of Filings #1

Take notice that the Commission received the following electric rate filings:

Docket Numbers: ER10-1818-029.

Applicants: Public Service Company of Colorado.

Description: Triennial Market Power Analysis for Southwest Region of Public Service Company of Colorado.

Filed Date: 3/11/22.

Accession Number: 20220311-5304.

Comment Date: 5 p.m. ET 5/10/22.

Docket Numbers: ER10-2137-025; ER10-2124-022; ER10-2125-023; ER10-2127-021; ER10-2128-022; ER10-2131-025; ER10-2132-022; ER10-2133-023; ER10-2138-026; ER10-2139-026; ER10-2140-025; ER10-2141-025; ER10-2764-022; ER11-3872-024; ER11-4044-027; ER11-4046-026; ER14-2187-019; ER15-1873-014; ER18-471-008; ER18-472-008; ER18-1197-005; ER20-387-004; ER20-388-004; ER20-956-003; ER20-2444-002; ER20-2445-002; ER21-258-002; ER21-1838-001; ER21-2137-003; ER21-2715-001; ER21-2716-001; ER14-2799-017.

Applicants: Beech Ridge Energy Storage LLC, Fairbanks Solar Holdings LLC, Fairbanks Solar Energy Center LLC, IR Energy Management LLC, Orangeville Energy Storage LLC, Todd Solar LLC, Prineville Solar Energy LLC, Millican Solar Energy LLC, Thunderhead Wind Energy LLC, Traverse Wind Energy Holdings LLC, Traverse Wind Energy LLC, Camilla Solar Energy LLC, States Edge Wind I Holdings LLC, States Edge Wind I LLC, Buckeye Wind Energy LLC, Grand Ridge Energy Storage LLC, Gratiot County Wind II LLC, Gratiot County Wind LLC, Stony Creek Energy LLC, Vantage Wind Energy LLC, Grand Ridge Energy V LLC, Grand Ridge Energy IV LLC, Grand Ridge Energy III LLC, Grand Ridge Energy II LLC, Beech Ridge Energy LLC, Sheldon Energy LLC, Willow Creek Energy LLC, Grand Ridge Energy LLC, Wolverine Creek Energy LLC, Invenergy TN LLC, Judith Gap Energy LLC, Spring Canyon Energy LLC.

Description: Notice of Change in Status of Beech Ridge Energy LLC, et al.

Filed Date: 3/3/22.

Accession Number: 20220303-5167.

Comment Date: 5 p.m. ET 3/24/22.

Docket Numbers: ER22-379-001.

Applicants: Southwest Power Pool, Inc.

Description: Tariff Amendment: Deficiency Response—Revisions to Implement ELCC Methodology to be effective 2/15/2022.

Filed Date: 3/14/22.

Accession Number: 20220314-5215.

Comment Date: 5 p.m. ET 4/4/22.

Docket Numbers: ER22-772-001.

Applicants: New York Independent System Operator, Inc.

Description: Tariff Amendment: Deficiency Response—BSM Capacity Accreditation Market Design to be effective 5/11/2022.

Filed Date: 3/11/22.

Accession Number: 20220311-5224.

Comment Date: 5 p.m. ET 4/1/22.

Docket Numbers: ER22-834-001.

Applicants: PacifiCorp.

Description: Tariff Amendment: Deficiency response OATT Revised LGIP & SGIP Sections to be effective 4/1/2022.

Filed Date: 3/14/22.

Accession Number: 20220314-5259.

Comment Date: 5 p.m. ET 4/4/22.

Docket Numbers: ER22-1277-000.

Applicants: Idaho Power Company.

Description: § 205(d) Rate Filing: Attachment M, Articles 5 and 8 and Attachment H, Section 1 to be effective 3/11/2022.

Filed Date: 3/11/22.

Accession Number: 20220311-5212.

Comment Date: 5 p.m. ET 4/1/22.

Docket Numbers: ER22-1278-000.

Applicants: California Independent System Operator Corporation.

Description: § 205(d) Rate Filing: 2022-03-11 Resource Sufficiency Evaluation Enhancements to be effective 12/31/9998.

Filed Date: 3/11/22.

Accession Number: 20220311-5214.

Comment Date: 5 p.m. ET 4/1/22.

Docket Numbers: ER22-1279-000.

Applicants: PJM Interconnection, L.L.C.

Description: § 205(d) Rate Filing: Original ISA No. 6370; Queue No. AC1-191 to be effective 2/10/2022.

Filed Date: 3/14/22.

Accession Number: 20220314-5057.

Comment Date: 5 p.m. ET 4/4/22.

Docket Numbers: ER22-1285-000.

Applicants: Front Range-Midway Solar Project, LLC.

Description: Petition for Limited Waiver of Front Range-Midway Solar Project, LLC.

Filed Date: 3/14/22.

Accession Number: 20220314-5088.

Comment Date: 5 p.m. ET 4/4/22.

Docket Numbers: ER22-1287-000.

Applicants: Midcontinent Independent System Operator, Inc., American Transmission Company LLC.

Description: § 205(d) Rate Filing: Midcontinent Independent System Operator, Inc. submits tariff filing per 35.13(a)(2)(iii: 2022-03-14_SA 2773 ATC-Adams-Columbia 2nd Rev CFA to be effective 5/14/2022.

Filed Date: 3/14/22.

Accession Number: 20220314-5101.

Comment Date: 5 p.m. ET 4/4/22.

Docket Numbers: ER22-1288-000.

Applicants: Midcontinent Independent System Operator, Inc., American Transmission Company LLC.

Description: § 205(d) Rate Filing: Midcontinent Independent System Operator, Inc. submits tariff filing per 35.13(a)(2)(iii: 2022-03-14_SA 2798 ATC-City of Menasha 2nd Rev CFA to be effective 5/14/2022.

Filed Date: 3/14/22.

Accession Number: 20220314-5105.

Comment Date: 5 p.m. ET 4/4/22.

Docket Numbers: ER22-1289-000.

Applicants: Midcontinent Independent System Operator, Inc., American Transmission Company LLC.

Description: § 205(d) Rate Filing: Midcontinent Independent System Operator, Inc. submits tariff filing per 35.13(a)(2)(iii: 2022-03-14_SA 2806 ATC-City of Oconomowoc 2nd Rev CFA to be effective 5/14/2022.

Filed Date: 3/14/22.

Accession Number: 20220314-5136.

Comment Date: 5 p.m. ET 4/4/22.

Docket Numbers: ER22-1290-000.

Applicants: Maine Power Link, LLC.

Description: Maine Power Link, LLC submits an Application for Authority to Charge Negotiated Rates With Transmission Capacity Rights on Its Proposed Transmission Project.

Filed Date: 3/10/22.

Accession Number: 20220310-5205.

Comment Date: 5 p.m. ET 3/31/22.

Docket Numbers: ER22-1291-000.

Applicants: PJM Interconnection, L.L.C.

Description: § 205(d) Rate Filing: Original ISA, Service Agreement No. 6369; Queue No. AE2-029 to be effective 2/10/2022.

Filed Date: 3/14/22.

Accession Number: 20220314-5181.

Comment Date: 5 p.m. ET 4/4/22.

Docket Numbers: ER22-1292-000.

Applicants: PJM Interconnection, L.L.C.

Description: § 205(d) Rate Filing: Original WMPA, Service Agreement No. 6382; Queue No. AE1-061 to be effective 2/10/2022.

Filed Date: 3/14/22.

Accession Number: 20220314-5190.

Comment Date: 5 p.m. ET 4/4/22.

Docket Numbers: ER22-1293-000.

Applicants: Public Service Company of Colorado.

Description: Formula Rate Post-Retirement Benefits Other than Pensions filing of Public Service Company of Colorado.

Filed Date: 3/11/22.

Accession Number: 20220311-5314.

Comment Date: 5 p.m. ET 4/1/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 14, 2022.
Kimberly D. Bose,
Secretary.

[FR Doc. 2022-05763 Filed 3-17-22; 8:45 am]

BILLING CODE 6717-01-P